ENVIRONMENTAL PROTECTION AGENCY

[EPA-HQ-OPA-2006-0090; FRL-10014-30-OMS]

Information Collection Request Submitted to OMB for Review and Approval; Comment Request; The National Oil and Hazardous Substances Pollution Contingency Plan Regulation, Subpart J (Renewal)

AGENCY: Environmental Protection Agency (EPA).

ACTION: Notice.

SUMMARY: The Environmental Protection Agency (EPA) has submitted an information collection request (ICR), The National Oil and Hazardous Substances Pollution Contingency Plan Regulation (EPA ICR Number 1664.12, OMB Control Number 2050-0141) to the Office of Management and Budget (OMB) for review and approval in accordance with the Paperwork Reduction Act. This is a proposed extension of the ICR, which is currently approved through October 31, 2020. Public comments were previously requested via the Federal Register on November 27, 2019 during a 60-day comment period. This notice allows for an additional 30 days for public comments. A fuller description of the ICR is given below, including its estimated burden and cost to the public. An agency may not conduct or sponsor and a person is not required to respond to a collection of information unless it displays a currently valid OMB control number.

DATES: Comments must be submitted on or before September 28, 2020.

ADDRESSES: Submit your comments to EPA, referencing Docket ID No. EPA-HQ-OPA-2006-0090, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Regulations Implementation Division, Office of Emergency Management, Mail Code 5104A, Environmental Protection Agency, 1200 Pennsylvania Ave. NW, Washington, DC 20460; telephone number: 202-564-8794; fax number: 202-564-2620; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This Information Collection Request (ICR) renewal supports activities to implement the National Oil and Hazardous Substances Pollution Contingency Plan (NCP), Subpart J (40 CFR 300.900), “Use of Dispersants and Other Chemicals.”

The use of bioremediation agents, dispersants, surface washing agents, surface collecting agents and miscellaneous oil spill control agents in response to oil spills in U.S. waters or adjoining shorelines is governed by Subpart J of the NCP regulation (40 CFR 300.900). Subpart J requirements include criteria for listing oil spill mitigating agents on the NCP Product Schedule, hereafter referred to as the Schedule. EPA's regulation, which is codified at 40 CFR 300.00, requires that EPA prepare a schedule of “dispersants, other chemicals, and other spill mitigating devices and substances, if any, that may be used in carrying out the NCP.” The Schedule is required by section 311(d)(2)(G) of the Clean Water Act (CWA), as amended by the Oil Pollution Act of 1990. The Schedule is used by Federal On-Scene Coordinators (FOSCs), Regional Response Teams (RRTs), and Area Planners to identify spill mitigating agents in preparation for and response to oil spills.

Under Subpart J, manufacturers who want to add a product to the Schedule must submit technical product data to the EPA as stipulated in 40 CFR 300.915. Subpart J requires the manufacturer to conduct specific toxicity and effectiveness tests and submit the corresponding technical product data along with other detailed information to the EPA Office of Emergency Management, Office of Land and Emergency Management. The Schedule is available to Federal On-Scene Coordinators (FOSCs), Regional Response Teams (RRTs), and Area Committees for helping them select the most appropriate products to use in various spill scenarios.

As of November 2019, the Product Schedule included 105 manufacturers and 122 products (27 bioremediation agents, 19 dispersants, 17 miscellaneous oil spill control agents, two surface collecting agents, and 57 surface washing agents). EPA estimates that each year of this ICR renewal period, nine manufacturers will apply to list a total of nine products on the Schedule. Therefore, over the three-year period covered by this ICR renewal, EPA estimates an additional 27 products may be listed. Additionally, EPA estimates that eight manufacturers will submit product information to EPA to obtain a sorbent certification letter annually.

At 40 CFR 300.920(c), respondents may claim certain information in the technical product data submissions as confidential business information. EPA will handle such claims pursuant to the provisions in 40 CFR part 2, subpart B. Such information must be submitted separately from non-confidential information, clearly identified, and clearly marked “Confidential Business Information.” If the applicant fails to make such a claim at the time of submittal, EPA may make the information available to the public without further notice.

Forms: None.

Respondents/affected entities: Respondents include, but are not limited to, manufacturers of bioremediation agents, dispersants, surface collecting agents, surface washing agents, miscellaneous oil spill control agents, sorbents and other chemical agents and biological additives used as countermeasures against oil spills.

Respondent's obligation to respond: Required to obtain or retain a benefit (40 CFR 300.900).

Estimated number of respondents: 9 (total).

Frequency of response: Each manufacturer responds once per product submittal.

Total estimated burden: 310 hours (per year). Burden is defined at 5 CFR 1320.03(b).

Total estimated cost: $95,400 (per year), includes $22,400 in operation & maintenance costs.

Changes in Estimates: EPA anticipates a slight decrease of five hours in the annual burden hours under this ICR renewal. EPA increased the respondent burden hours by 20 percent in response to manufacturer feedback obtained during the consultation process. However, because EPA estimates that fewer respondents will submit information to EPA to have a product listed on the Schedule, in addition to fewer sorbent manufacturers submitting products for certification, the overall annual burden estimate has decreased slightly for this ICR renewal period.

Courtney Kerwin,
Director, Regulatory Support Division.

[FR Doc. 2020-19001 Filed 8-27-20; 8:45 am]

BILLING CODE 6560-50-P